DEPARTMENT OF TRANSPORTATION

Federal Aviation Administration

14 CFR Part 71

[Docket No. FAA-2008-0873; Airspace Docket No. 08-AGL-7]

Proposed Establishment of Class E Airspace; Branson, MO

AGENCY: Federal Aviation Administration (FAA), DOT.

ACTION: Notice of proposed rulemaking; correction.

SUMMARY: This action makes a correction to the airport's name and geographic coordinates in the Notice of Proposed Rulemaking (NPRM) published in the Federal Register October 22, 2008 (73 FR 62940) Docket No. FAA-2008-0873.

DATES: Effective Dates: 0901 UTC. November 17, 2008.

SUPPLEMENTARY INFORMATION:

History

The FAA published an NPRM in the Federal Register October 22, 2008, (73 FR 62940), Docket No. FAA-2008-0873, establishing Class E Airspace at Branson, MO. Subsequent to publication, an error was discovered in the airport's name and geographic coordinates for Branson Airport. This action corrects those errors.

Correction to NPRM

Accordingly, pursuant to the authority delegated to me, the airport name and geographic coordinates for Class E2 and E5 airspace, as published in the Federal Register October 22, 2008, (73 FR 62940), Docket No. FAA-2008-0873, are amended as follows:

§ 71.1 [Amended]

* * * * *

ACE MO E2 Branson, MO [Corrected]

Branson Airport, MO (Lat. 36°31′55″ N., long. 93°12′02″ W.)

Within a 4.1-mile radius of Branson Airport. This Class E airspace area is effective during the specific dates and times established in advance by a Notice to Airmen. The effective date and time will thereafter be continuously published in the Airport/Facility Directory.

* * * * *

ACE MO E5 Branson, MO [Corrected]

Branson Airport , MO (Lat. 36°31′55″ N., long. 93°12′02″ W.)

That airspace extending upward from 700 feet above the surface within a 6.6-mile radius of Branson Airport.

* * * * *

Issued in Fort Worth, TX, on November 6, 2008.
Robert Beeman,
Acting Manager, Operations Support Group, ATO Central Service Area.

[FR Doc. E8-27155 Filed 11-14-08; 8:45 am]

BILLING CODE 4910-13-P